NUCLEAR REGULATORY COMMISSION

10 CFR Part 32

[Docket No. PRM-32-6; NRC-2009-0547]

Association of State and Territorial Solid Waste Management Officials; Notice of Receipt of Petition for Rulemaking

AGENCY: Nuclear Regulatory Commission.

ACTION: Petition for rulemaking; Notice of receipt.

SUMMARY: The Nuclear Regulatory Commission (NRC) has received and requests public comment on a petition for rulemaking dated November 6, 2009, filed by the Association of State and Territorial Solid Waste Management Officials (ASTSWMO) (petitioner). The petition was docketed by the NRC and has been assigned Docket No. PRM-32-6. The petitioner requests that the NRC amend its regulations and/or guidance to improve the labeling and accountability of tritium exit signs.

DATES: Submit comments by March 29, 2010. Comments received after this date will be considered if it is practical to do so, but the NRC is able to assure consideration only for comments received on or before this date.

ADDRESSES: Please include Docket ID NRC-2009-0547 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods:

Federal Rulemaking Web site: Go to http://www.regulations.gov and search for documents filed under Docket ID NRC-2009-0547. Comments may be submitted electronically through this Web site. Address questions about NRC dockets to Carol Gallagher 301-492-3668; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677.

Hand deliver comments to: 11555 Rockville Pike, Rockville, Maryland 20852, between 7:30 a.m. and 4:15 p.m. Federal workdays. (Telephone 301-415-1677).

You can access publicly available documents related to this document using the following methods:

Federal e-Rulemaking Portal: Go to http://www.regulations.gov and search for documents filed under Docket ID NRC-2009-0547.

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

You may also obtain a copy of the petition from ADAMS under accession number ML093410012.

FOR FURTHER INFORMATION CONTACT: Michael T. Lesar, Chief, Rulemaking and Directives Branch, Division of Administrative Services, Office of Administration, U.S. Nuclear Regulatory Commission, Washington, DC 20555-0001, Telephone 301-492-3663, toll free 800-368-5642, Michael.Lesar@nrc.gov.

SUPPLEMENTARY INFORMATION:

The Petitioner

The petitioner is an organization representing the managers of solid waste, hazardous waste, remediation, and underground storage tank programs of the States and territories. The petitioner states it is tasked with identifying national level radiation issues of concern and promoting partnerships between States and Federal agencies to address these issues. The petitioner states it has been working with the U.S. Environmental Protection Agency since 2002 to improve public information about existing tritium exit signs.

Background and Summary of Petitioner's Assertions

The petitioner performed an evaluation on the lack of control of tritium exit signs and contamination of landfill leachate (the final report “Lack of Tritium Exit Signs Control and Contamination of Landfill Leachate,” dated July 2009, is included as part of the petition), and stated that it found that the majority of unaccounted for tritium exit signs are disposed of in solid waste landfills where they become potential sources of groundwater and surface water contamination. The petitioner states that a minority of tritium exit signs are returned to the manufacturer for recycling, or disposed of as low-level radioactive waste.

The petitioner asserts that from the standpoint of the existing market, specific changes to new tritium exit signs will improve recognition and thus accountability. The labeling should be in several locations on the sign, with a larger font, and the expiration date should be distinctly legible to a fire or building inspector without taking down the sign. The petitioner also states that manufacturers do not always demonstrate accountability in dispensing exit signs to the proper recipients, and recipients are not informed of proper ownership and regulatory requirements provided in NUREG-1556, Vol 16, Appendix L, and 10 CFR 31.5 of the NRC's regulations. The online vendors do not always highlight that tritium is radioactive and that it has special “general licensing” requirements. The petitioner asserts that radiation trefoil should be displayed on the front and back of advertisements.

The petitioner believes that, given the recent Walmart experience with the tritium exit signs, general licensing is successful only when the user understands that these devices are radioactive and subject to controls. Also, in light of the current general lack of controls, specific licensee manufacturers should be responsible for informing customers of the proper disposal of expired and used tritium exit signs. From the standpoint of solid waste management officials, the petitioner believes that the NRC should exercise its full regulatory authority to prevent the disposal of tritium exit signs in landfills.

The petitioner further asserts that, though not in NRC's purview, advances in photo-luminescent technology over the past decade have demonstrated effective alternate technology for places without electricity. Efficient Light Emitting Diodes with backup batteries are being used where electricity is available. These technologies together replace the need for tritium self-luminescent exit signs. The petitioner states that solid waste management officials simply want to stop tritium exit sign disposal in landfills.

Proposed Action

The petitioner requests that the NRC revise its regulations and/or guidance to improve the labeling and accountability of tritium exit signs. The petitioner states that it would ideally like to see tritium exit sign technology immediately replaced by alternative technologies.

The petitioner requests that NRC revise its regulations and/or guidance to state:

1. The labeling should be in several locations on the sign, with larger font.

2. An expiration date should be distinctly legible to a fire or building inspector without taking down the sign.

3. The radiation trefoil should be displayed on the front and back of advertisements.

Also, the petitioner recommends a national collection effort with distinct milestones and goals should be undertaken to consolidate all expired and disused tritium exit signs. The petitioner requests that NRC organize a meeting with ASTSWMO and all interested stakeholders to set a new path forward on this issue.

Dated at Rockville, Maryland, this 6th day of January 2010.
For the Nuclear Regulatory Commission.
Annette L. Vietti-Cook,
Secretary of the Commission.

[FR Doc. 2010-347 Filed 1-11-10; 8:45 am]

BILLING CODE 7590-01-P